DEPARTMENT OF HEALTH AND HUMAN SERVICES

Food and Drug Administration

[Docket No. FDA-2012-N-0145]

Agency Information Collection Activities; Submission for Office of Management and Budget Review; Comment Request; Improving Food Safety and Defense Capacity of the State and Local Level: Review of State and Local Capacities

AGENCY: Food and Drug Administration, HHS.

ACTION: Notice.

SUMMARY: The Food and Drug Administration (FDA) is announcing that a proposed collection of information has been submitted to the Office of Management and Budget (OMB) for review and clearance under the Paperwork Reduction Act of 1995.

DATES: Fax written comments on the collection of information by December 21, 2015.

ADDRESSES: To ensure that comments on the information collection are received, OMB recommends that written comments be faxed to the Office of Information and Regulatory Affairs, OMB, Attn: FDA Desk Officer, FAX: 202-395-7285, or emailed to oira_submission@omb.eop.gov. All comments should be identified with the OMB control number 0910-0726. Also include the FDA docket number found in brackets in the heading of this document.

FOR FURTHER INFORMATION CONTACT: FDA PRA Staff, Office of Operations, Food and Drug Administration, 8455 Colesville Rd., COLE-14526, Silver Spring, MD 20993-0002, PRAStaff@fda.hhs.gov.

SUPPLEMENTARY INFORMATION: In compliance with 44 U.S.C. 3507, FDA has submitted the following proposed collection of information to OMB for review and clearance.

Improving Food Safety and Defense Capacity at the State and Local Level: Review of State and Local Capacities OMB Control Number 0910-0726—Extension

The Food Safety Modernization Act (FSMA) (Pub. L. 111-353) states that a review must be conducted to assess the State and local capacities to show needs for enhancement in the areas or staffing levels, laboratory capacities, and information technology systems. This mandate referenced in FSMA section 110 stating that a review of current food safety and food defense capabilities must be presented to Congress no later than 2 years after the date of enactment (enactment date January 4, 2011). This review was completed in 2013 through this information collection request.

This collection provided a baseline measurement of the nation's current food safety and food defense capabilities; FDA wants to renew this information collection to gather more data. By renewing this collection, FDA will be able to analyze the gaps and trends at the State and local levels, allowing FDA and its partners to develop ways to create a national integrated food safety system.

FDA will conduct the survey electronically, allowing FDA to conduct streamlined analysis while creating a low-burden, user-friendly environment for respondents to complete the survey. Once the results have been tabulated, FDA and its partners can assess the current progress towards an integrated food safety system.

In the Federal Register of August 31, 2015 (80 FR 46025), FDA published a 60-day notice requesting public comment on the proposed collection of information. No comments were received.

FDA estimates the burden of this collection of information as follows:

Table 1—Estimated Annual Reporting Burden ¹
Activity | Number of respondents | Number of responses per respondent | Total annual responses | Average burden per response | Total hours
Current State and Local Government Employees | 1,400 | 1 | 1,400 | 1 | 1,400
¹ There are no capital costs or operating and maintenance costs associated with this collection of information.

Dated: November 17, 2015.
Leslie Kux,
Associate Commissioner for Policy.

[FR Doc. 2015-29663 Filed 11-19-15; 8:45 am]

BILLING CODE 4164-01-P